NUCLEAR REGULATORY COMMISSION

[Docket No. 50-461; NRC-2010-0252]

Exelon Generation Company, LLC; Clinton Power Station; Environmental Assessment and Finding of No Significant Impact

The U.S. Nuclear Regulatory Commission (NRC) is considering changes to the Emergency Plan, pursuant to 10 CFR 50.54, “Conditions of licenses,” paragraph (q), for Facility Operating License No. NPF-62, issued to Exelon Generation Company, LLC (the licensee), for operation of the Clinton Power Station, located in Clinton, Illinois. In accordance with 10 CFR 51.21, the NRC prepared an environmental assessment documenting its finding. The NRC concluded that the proposed action will have no significant environmental impact.

Environmental Assessment

Identification of the Proposed Action

The proposed action is NRC approval of a licensee's request to revise the staffing requirements for the Exelon Nuclear Radiological Emergency Plan Annex for Clinton Station, Table B-1, “Minimum Staffing Requirements for the On-Shift Clinton Station Emergency Response Organization (ERO),” to allow an increase in the Non-Licensed Operator (NLO) staffing from two to four, allow in-plant protective actions to be performed by personnel assigned other functions, and replace a Mechanical Maintenance person with a NLO. The regulation at 10 CFR 50.54(q) states that, “The nuclear power reactor licensee may make changes to these plans without Commission approval only if the changes do not decrease the effectiveness of the plans.” The licensee concluded that the proposed action constituted a decrease in the plan's effectiveness and has requested NRC's approval of the proposed action.

The Need for the Proposed Action

The proposed action is needed to allow an increase in NLO staffing from two to four, allow in-plant protective actions to be performed by personnel assigned other functions, and replace a Mechanical Maintenance person with a NLO. According to the licensee, increasing the number of NLO staffing improves the response of site personnel whose emergency plan role is to assist with operator and maintenance response to the emergency event and provides an increased number of personnel for repair and corrective actions.

Environmental Impacts of the Proposed Action

The NRC has completed its environmental assessment of the proposed changes to the Clinton Power Station Emergency Plan. The staff has concluded that the changes would not significantly affect plant safety and would not have a significant adverse effect on the probability of an accident occurring. The proposed action would not result in an increased radiological hazard beyond those previously analyzed in the updated safety analysis report. There will be no change to radioactive effluents that effect radiation exposures to plant workers and members of the public. The proposed action is an administrative change related to plant personnel work assignments. No changes will be made to plant buildings or the site property. Therefore, no changes or different types of radiological impacts are expected as a result of the proposed action.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

The details of the staff's safety evaluation will be provided as part of the letter to the licensee approving issuance of the license amendment.

Environmental Impacts of the Alternatives to the Purposed Action

As an alternative to the proposed actions, the staff considered denial of the proposed actions (i.e., the “no-action” alternative). Denial of the license amendment request would result in no change in current environmental impacts. The environmental impacts of the proposed license amendment and the “no action” alternative are similar.

Alternative Use of Resources

The action does not involve the use of any different resources than those considered in the Final Environmental Statement for the Clinton Power Station, Docket No. 50-461, issued in May, 1982.

Agencies and Persons Consulted

In accordance with its stated policy, on July 7, 2010, the staff consulted with the Illinois State official, Mr. Frank Niziolek of the Illinois Emergency Management Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated April 2, 2010 (ML100950124). Documents may be examined, and/or copied for a fee, at the NRC's Public Document Room (PDR), located at One White Flint North, 1555 Rockville Pike, Rockville, Maryland 20852. Publicly available records will be accessible electronically from the Agencywide Document Access and Management System (ADAMS) Public Electronic Reading Room on the Internet at the NRC Web site: http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 14th day of July 2010.
For the Nuclear Regulatory Commission.
Nicholas DiFrancesco,
Project Manager, Plant Licensing Branch III-2, Division of Operating Reactor Licensing, Office of Nuclear Reactor Regulation.

[FR Doc. 2010-17992 Filed 7-21-10; 8:45 am]

BILLING CODE 7590-01-P